INTERNATIONAL TRADE COMMISSION

[Investigation No. 332-477]

Sub-Saharan Africa: Effects of Infrastructure Conditions on Export Competitiveness, Third Annual Report

AGENCY: United States International Trade Commission.

ACTION: Scheduling of third annual report and public hearing; change in focus and title of third report; and indication of sub-Saharan African industries that may be covered.

SUMMARY: In response to a supplemental letter dated June 30, 2008, from the United States Trade Representative (USTR) covering the third report in this series, the Commission has changed the focus and title of its third report and will examine the effect that conditions of key infrastructure sectors have on the export competitiveness of select sub-Saharan African (SSA) industries. This notice announces the scheduling of the third and final report in this series, the SSA industries that may be covered, and the scheduling of a public hearing. This series of reports was originally requested in a letter from the USTR dated July 26, 2006. In response, the Commission instituted investigation No. 332-477 and delivered its first and second reports on April 3, 2007, and April 3, 2008, respectively, under the investigation title Sub-Saharan Africa: Factors Affecting Trade Patterns of Selected Industries.

October 1, 2008: Deadline for filing requests to appear at the public hearing.

October 7, 2008: Deadline for filing pre-hearing briefs and statements.

October 28, 2008: Public hearing.

November 4, 2008: Deadline for filing post-hearing briefs and statements.

April 3, 2009: Transmittal of Commission report to USTR.

ADDRESSES: All Commission offices, including the Commission's hearing rooms, are located in the United States International Trade Commission Building, 500 E Street, SW., Washington, DC. All written submissions should be addressed to the Secretary, United States International Trade Commission, 500 E Street, SW., Washington, DC 20436. The public record for this investigation may be viewed on the Commission's electronic docket (EDIS) at http://www.usitc.gov/secretary/edis.htm.

FOR FURTHER INFORMATION CONTACT: Co-project leaders Erland Herfindahl (202-205-2374 or erland.herfindahl@usitc.gov) or Alan Treat (202-205-3426 or alan.treat@usitc.gov) for information specific to this report. For information on the legal aspects of this investigation, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Internet server (http://www.usitc.gov). Persons with mobility impairments who will need special assistance in gaining access to the Commission should contact the Office of the Secretary at 202-205-2000.

Background: As indicated above, this notice concerns the final of three annual reports that the USTR requested the Commission provide concerning factors affecting trade patterns of selected industries in SSA countries. In the initial request letter of July 26, 2006, the USTR described the type of information that the Commission should provide in its reports with respect to each industry and identified the industries and products produced to be covered in the first annual report. The letter indicated that USTR would provide additional lists of industries and products produced for each of the second and third annual reports. The letter asked that the Commission deliver its three reports by April 3, 2007, April 3, 2008, and April 3, 2009, respectively. The Commission published notice of institution of this investigation in the Federal Register on August 29, 2006 (71 FR 51212), and delivered its first and second reports to USTR on April 3, 2007 and April 3, 2008, respectively.

On June 30, 2008, the Commission received a supplemental letter from the USTR requesting that the Commission provide, in its third report, an analysis of the effect that conditions in key infrastructure sectors have on the export competitiveness of select SSA industries, particularly but not limited to, industries considered in the previous two reports. The USTR asked that the Commission's analysis include a brief overview of the effect of infrastructure conditions generally, and a more in-depth analysis of the effect of conditions in infrastructure sectors (land transport, maritime transport, and electricity) that were identified by the Commission in the previous two reports as having a significant effect on the export competitiveness of many SSA industries. To address the effect of conditions in these infrastructure sectors on the export competitiveness of SSA industries, the Commission's report may include analysis with respect to the following industries: (1) In the agriculture sector, coffee, shea butter, and tropical fruits (e.g., bananas and pineapples); (2) in the mining and manufacturing sector, natural rubber and downstream products thereof, textiles and apparel, and leather; and (3) in the services sector, tourism services.

Public Hearing: A public hearing in connection with this investigation will be held beginning at 9:30 a.m. on October 28, 2008, at the United States International Trade Commission Building, 500 E Street, SW., Washington DC. Requests to appear at the hearing should be filed with the Secretary no later than 5:15 p.m., October 1, 2008, in accordance with the requirements in the “Written Submissions” section below. In the event that, as of the close of business on October 1, 2008, no witnesses are scheduled to appear at the hearing, the hearing will be canceled. Any person interested in attending the hearing as an observer or nonparticipant may call the Secretary to the Commission (202-205-2000) after October 1, 2008, for information concerning whether the hearing will be held.

Written Submissions: In lieu of or in addition to participating in the hearing, interested parties are invited to submit written statements or briefs concerning this investigation. All written submissions, including requests to appear at the hearing, statements, and briefs, should be addressed to the Secretary. Any pre-hearing statements or briefs should be filed not later than 5:15 p.m., October 7, 2008; and post-hearing statements and briefs and all other written submissions should be filed not later than 5:15 p.m., November 4, 2008. All written submissions must conform with the provisions of section 201.8 of the Commission's Rules of Practice and Procedure (19 CFR 201.8). Section 201.8 of the rules requires that a signed original (or a copy designated as an original) and fourteen (14) copies of each document be filed. In the event that confidential treatment of the document is requested, at least four (4) additional copies must be filed, in which the confidential information must be deleted (see the following paragraph for further information regarding confidential business information). The Commission's rules do not authorize filing submissions with the Secretary by facsimile or electronic means, except to the extent permitted by section 201.8 of the rules (see Handbook for Electronic Filing Procedures, http://www.usitc.gov/secretary/fed_reg_notices/rules/documents/handbook_on_electronic_filing.pdf; persons with questions regarding electronic filing should contact the Secretary at 202-205-2000). Any submissions that contain confidential business information must also conform with the requirements of section 201.6 of the Commission's Rules of Practice and Procedure (19 CFR 201.6). Section 201.6 of the rules requires that the cover of the document and the individual pages be clearly marked as to whether they are the “confidential” or “non-confidential” version, and that the confidential business information be clearly identified by means of brackets. All written submissions, except for confidential business information, will be made available in the Office of the Secretary to the Commission for inspection by interested parties.

In the initial request letter (and reaffirmed in her letter of June 30, 2008), the USTR stated that her office intends to make the Commission's reports in this investigation available to the public in their entirety, and asked that the Commission not include any confidential business or national security information in its reports. Consequently, the reports that the Commission sends to the USTR will not contain any such information. Any confidential business information received by the Commission in this investigation and used in preparing its reports will not be published in a manner that would reveal the operations of the firm supplying the information.

Issued: July 31, 2008.
By order of the Commission.
Marilyn R. Abbott,
Secretary to the Commission.

[FR Doc. E8-18051 Filed 8-6-08; 8:45 am]

BILLING CODE 7020-02-P